FEDERAL DEPOSIT INSURANCE CORPORATION

12 CFR Part 303

RIN 3064-AG20

Approval Requirements for Issuance of Payment Stablecoins by Subsidiaries of FDIC-Supervised Insured Depository Institutions; Extension of Comment Period

AGENCY: Federal Deposit Insurance Corporation.

ACTION: Notice of proposed rulemaking; extension of comment period.

SUMMARY: On December 19, 2025, the Federal Deposit Insurance Corporation (FDIC) published in the Federal Register a notice of proposed rulemaking that would establish procedures to be followed by an insured State nonmember bank or State savings association (each, an FDIC-supervised institution) that seeks to obtain FDIC approval to issue payment stablecoins through a subsidiary pursuant to the Guiding and Establishing National Innovation for U.S. Stablecoins Act (GENIUS Act). The proposed rule provided for a 60-day comment period, which will close on February 17, 2026. The FDIC has determined that an extension of the comment period until May 18, 2026, is appropriate. This action will allow interested parties additional time to analyze the proposal and prepare comments.

DATES: The comment period for the document published at 90 FR 59409 (December 19, 2025) is extended. Comments must be received on or before May 18, 2026.

ADDRESSES: You may submit comments, identified by RIN 3064-AG20, by any of the following methods:

• Agency Website: https://www.fdic.gov/resources/regulations/federal-register-publications. Follow instructions for submitting comments on the agency website.

• Email: comments@fdic.gov. Include RIN 3064-AG20 in the subject line of the message.

• Mail: Jennifer M. Jones, Deputy Executive Secretary, Attention: Comments—RIN 3064-AG20, Federal Deposit Insurance Corporation, 550 17th Street NW, Washington, DC 20429.

• Hand Delivery: Comments may be hand-delivered to the guard station at the rear of the 550 17th Street NW Building (located on F Street) on business days between 7 a.m. and 5 p.m.

• Public Inspection: Comments received, including any personal information provided, may be posted without change to https://www.fdic.gov/resources/regulations/federal-register-publications. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of the notice will be retained in the public comment file and will be considered as required under all applicable laws. All comments may be accessible under the Freedom of Information Act.

FOR FURTHER INFORMATION CONTACT: With respect to the comment period extension: Chantal Hernandez, Counsel, (202) 898-7388, chhernandez@fdic.gov.

With respect to the notice of proposed rulemaking: Alfred L. Seivold, Acting Senior Deputy Director, (415) 808-8248, aseivold@fdic.gov, Division of Complex Institution Supervision and Resolution; Sandra Macias, Acting Associate Director, (202) 898-3642, smacias@fdic.gov, Division of Risk Management Supervision; Nicholas Simons, Counsel, (202) 898-6785, nsimons@fdic.gov, Chantal Hernandez, Counsel, (202) 898-7388, chhernandez@fdic.gov, Eugene Frenkel, Fin-Tech Counsel, (202) 898-3578, yfrenkel@fdic.gov, Legal Division.

SUPPLEMENTARY INFORMATION: On December 19, 2025, the FDIC published in the Federal Register (90 FR 59409) a notice of a proposed rule that would establish procedures for FDIC-supervised institutions seeking FDIC approval to issue payment stablecoins through a subsidiary pursuant to the GENIUS Act.¹ The proposed rule stated that the comment period would close on February 17, 2025. To provide additional time for the public to prepare comments to address the matters raised by the proposed rule, the FDIC is extending the comment period for the proposed rule from February 17, 2026, to May 18, 2026.

¹ Public Law 119-27, 139 Stat. 419 (codified at 12 U.S.C. 5901-5916).

Federal Deposit Insurance Corporation.
Dated at Washington, DC, on February 6, 2026.
Jennifer M. Jones,
Deputy Executive Secretary.

[FR Doc. 2026-02665 Filed 2-10-26; 8:45 am]

BILLING CODE 6714-01-P